DEPARTMENT OF ENERGY

Federal Energy Regulatory Commission

[Project No. 4337-007]

Consolidated Hydro New Hampshire, Inc.; West Hopkinton Hydro, LLC; Notice of Transfer of Exemption

1. By letter filed April 24, 2015,¹ William B. Conway, Jr., Counsel for Enel Green Power North America, Inc. (EGPNA),² informed the Commission that the exemption from licensing for the Hoague-Sprague Project, FERC No. 4337, originally issued March 11, 1982,³ has been transferred to West Hopkinton Hydro, LLC, an affiliate of Enel Green Power. The project is located on the Contoocook River in Merrimack County, New Hampshire. The transfer of an exemption does not require Commission approval.

¹ Seventeen other exempted projects which are to be transferred were included in the April 24, 2015 letter. These exemptions will be handled under separate proceedings.

² Enel Green Power North America, Inc. is a wholly owned subsidiary of Enel Green Power. Enel Green Power is a well-capitalized publicly traded company.

³ 18 FERC ¶ 62,419, Order Granting Exemption from Licensing for a Small Hydroelectric Project(5 MW or Less) (1982).

2. West Hopkinton Hydro, LLC is now the exemptee of the Hoague-Sprague Project, FERC No. 4337. All correspondence should be forwarded to: West Hopkinton Hydro, LLC, c/o Enel Green Power North America, Inc., Attn: General Counsel, 1 Tech Drive, Suite 220, Andover, MA 01810.

Dated: May 18, 2015.
Kimberly D. Bose,
Secretary.

[FR Doc. 2015-12474 Filed 5-21-15; 8:45 am]

BILLING CODE 6717-01-P